DEPARTMENT OF ENERGY

Federal Energy Regulatory Commission

Combined Notice of Filings #1

Take notice that the Commission received the following electric corporate filings:

Docket Numbers: EC13-61-000.

Applicants: Puget Sound Energy, Inc.

Description: Application for Authorization for Disposition of Jurisdictional Facilities and Request For Expedited Action of Puget Sound Energy, Inc.

Filed Date: 1/11/13.

Accession Number: 20130111-5192.

Comments Due: 5 p.m. ET 2/1/13.

Take notice that the Commission received the following electric rate filings:

Docket Numbers: ER10-2839-002.

Applicants: Midland Cogeneration Venture Limited Partnership.

Description: Notice of Change in Status, Updated Market Power Analysis, and Motion for Leave to File One Day Out of Time of Midland Cogeneration Venture Limited Partnership.

Filed Date: 1/11/13.

Accession Number: 20130111-5193.

Comments Due: 5 p.m. ET 2/1/13.

Docket Numbers: ER10-2912-003.

Applicants: Alliance for Cooperative Energy Services Marketing LLC.

Description: Notice of Non-Material Change in Status of Alliance for Cooperative Energy Services Power Marketing LLC.

Filed Date: 1/11/13.

Accession Number: 20130111-5185.

Comments Due: 5 p.m. ET 2/1/13.

Docket Numbers: ER13-685-001.

Applicants: Public Service Company of New Mexico.

Description: Supplemental Filing associated with Revised Sheets in PNM's Coordination Tariff to be effective 8/31/2010.

Filed Date: 1/14/13.

Accession Number: 20130114-5000.

Comments Due: 5 p.m. ET 2/1/13.

Docket Numbers: ER13-752-000.

Applicants: Energy Storage Holdings, LLC.

Description: Energy Storage Holdings, LLC to be effective 1/12/2013.

Filed Date: 1/11/13.

Accession Number: 20130111-5163.

Comments Due: 5 p.m. ET 2/1/13.

Docket Numbers: ER13-753-000.

Applicants: Pacific Gas and Electric Company.

Description: Amendment to PWRPA IA Appendix B and Filing of Mocho 3 WDT Service Agreement to be effective 1/15/2013.

Filed Date: 1/14/13.

Accession Number: 20130114-5001.

Comments Due: 5 p.m. ET 2/4/13.

Docket Numbers: ER13-754-000.

Applicants: Pacific Gas and Electric Company.

Description: 2nd Amendment to Extend the PG&E-NCPA Interconnection Agreement to be effective 3/31/2013.

Filed Date: 1/14/13.

Accession Number: 20130114-5002.

Comments Due: 5 p.m. ET 2/4/13.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: January 14, 2013.
Nathaniel J. Davis, Sr.,
Deputy Secretary.

[FR Doc. 2013-01367 Filed 1-23-13; 8:45 am]

BILLING CODE 6717-01-P